DEPARTMENT OF AGRICULTURE

Animal and Plant Health Inspection Service

7 CFR Part 319

Foreign Quarantine Notices

CFR Correction

In Title 7 of the Code of Federal Regulations, Parts 300 to 399, revised as of January 1, 2015, make the following corrections:

1. On page 231, in § 319.8-24, in paragraph (c), after the first occurrence of the word “his”, add the words “or her”;

2. On page 312, in § 319.55-6, in paragraph (b)(1), in the first sentence, after the second occurrence of the word “treatment”, add the phrase “in accordance with part 305 of this chapter”; and

3. On page 342, in § 319.56-28, in paragraph (g)(1), at the end of the first sentence, add the phrase “of Morocco”.

[FR Doc. 2015-32217 Filed 12-22-15; 8:45 am]

BILLING CODE 1505-01-D